DEPARTMENT OF TRANSPORTATION

Federal Aviation Administration

Notice of Availability of the Finding of No Significant Impact/Record of Decision for the Final Environmental Assessment and Final General Conformity Determination for the Proposed Terminal Area Plan and Air Traffic Procedures at Chicago O'Hare International Airport

AGENCY: Federal Aviation Administration, Department of Transportation (DOT).

ACTION: Notice.

SUMMARY: The Federal Aviation Administration (FAA) announces the issuance and availability of a Finding of No Significant Impact/Record of Decision for the Final Environmental Assessment and Final General Conformity Determination for the Proposed Terminal Area Plan and Air Traffic Procedures for Chicago O'Hare International Airport, Chicago, Illinois. The Final Environmental Assessment analyzes and discloses the potential environmental impacts associated with the Proposed Terminal Area Plan and Air Traffic Procedures at Chicago O'Hare International Airport, pursuant to the National Environmental Policy Act.

FOR FURTHER INFORMATION CONTACT: Deb Bartell, Manager, Chicago Airports District Office (847) 294-7336.

SUPPLEMENTARY INFORMATION: The Finding of No Significant Impact/Record of Decision and the Final Environmental Assessment, including the Final General Conformity Determination, located at Appendix E of the Final Environmental Assessment, are available online at: (https://www.faa.gov/airports/great_lakes/TAPandATEA/).

Issued in Des Plaines, IL.
Dated: November 18, 2022.
Debra L. Bartell,
Manager, Chicago Airports District Office.

[FR Doc. 2022-25677 Filed 11-23-22; 8:45 am]

BILLING CODE 4910-13-P